DEPARTMENT OF DEFENSE

GENERAL SERVICES ADMINISTRATION

NATIONAL AERONAUTICS AND SPACE ADMINISTRATION

[OMB Control No. 9000-0011; Docket 2016-0053; Sequence 35]

Submission for OMB Review; Preaward Survey Forms (Standard Forms 1403, 1404, 1405, 1406, 1407, and 1408)

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve an extension of a previously approved information collection requirement concerning preaward survey forms (Standard Forms 1403, 1404, 1405, 1406, 1407, and 1408). A notice was published in the Federal Register on November 8, 2016. No comments were received.

DATES: Submit comments on or before June 8, 2017.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number. Follow the instructions provided at the “Submit a Comment” screen. Please include your name, company name (if any), and “Information Collection 9000-0011, Preaward Survey Forms, (Standard Forms 1403, 1404, 1405, 1406, 1407, and 1408)” on your attached document.

• Mail: General Services Administration, Regulatory Secretariat Division (MVCB), 1800 F Street NW., Washington, DC 20405. ATTN: Ms. Sosa/IC 9000-0011.

Instructions: Please submit comments only and cite Information Collection 9000-0011, Preaward Survey Forms, (Standard Forms 1403, 1404, 1405, 1406, 1407, and 1408), in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Cecelia L. Davis, Procurement Analyst, Office of Governmentwide Acquisition Policy, GSA, 202-219-0202 or email cecelia.davis@gsa.gov.

SUPPLEMENTARY INFORMATION:

A. Purpose

To protect the Government's interest and to ensure timely delivery of items of the requisite quality, contracting officers, prior to award, must make an affirmative determination that the prospective contractor is responsible, i.e., capable of performing the contract. Before making such a determination, the contracting officer must have in his possession or must obtain information sufficient to satisfy himself that the prospective contractor: (i) Has adequate financial resources, or the ability to obtain such resources; (ii) is able to comply with required delivery schedule; (iii) has a satisfactory record of performance; (iv) has a satisfactory record of integrity; and (v) is otherwise qualified and eligible to receive an award under appropriate laws and regulations. If such information is not in the contracting officer's possession, it is obtained through a preaward survey conducted by the contract administration office responsible for the plant and/or the geographic area in which the plant is located. The necessary data is collected by contract administration personnel from available data or through plant visits, phone calls, and correspondence. This data is entered on Standard Forms 1403, 1404, 1405, 1406, 1407, and 1408 in detail commensurate with the dollar value and complexity of the procurement. These standard forms are not cumulative. The surveying activity completes only the applicable standard form(s) necessary to determine contractor responsibility in each case.

B. Annual Reporting Burden

Standard Form 1403—Preaward Survey of Prospective Contractor (General)

Number of Respondents: 1,116.

Responses per Respondent: 1.

Annual Responses: 1,116.

Hours per Response: 24.

Total Burden Hours: 26,784.

Frequency: On occasion.

Affected Public: Businesses or other for-profit and not-for profit institutions.

Standard Form 1404—Preaward Survey of Prospective Contractor Technical

Number of Respondents: 558.

Responses per Respondent: 1.

Annual Responses: 558.

Hours per Response: 24.

Total Burden Hours: 13,392.

Frequency: On occasion.

Affected Public: Businesses or other for-profit and not-for profit institutions.

Standard Form 1405—Preaward Survey of Prospective Contractor Production

Number of Respondents: 372.

Responses per Respondent: 1.

Annual Responses: 372.

Hours per Response: 24.

Total Burden Hours: 8,928.

Frequency: On occasion.

Affected Public: Businesses or other for-profit and not-for profit institutions.

Standard Form 1406—Preaward Survey of Prospective Contractor Quality Assurance

Number of Respondents: 372.

Responses per Respondent: 1.

Annual Responses: 372.

Hours per Response: 24.

Total Burden Hours: 8,928.

Frequency: On occasion.

Affected Public: Businesses or other for-profit and not-for profit institutions.

Standard Form 1407—Preaward Survey of Prospective Contractor Financial Capability

Number of Respondents: 558.

Responses per Respondent: 1.

Annual Responses: 558.

Hours per Response: 24.

Total Burden Hours: 13,392.

Frequency: On occasion.

Affected Public: Businesses or other for-profit and not-for profit institutions.

Standard Form 1408—Preaward Survey of Prospective Contractor Accounting System

Number of Respondents: 744.

Responses per Respondent: 1.

Annual Responses: 744.

Hours per Response: 24.

Total Burden Hours: 17,856.

Frequency: On occasion.

Affected Public: Businesses or other for-profit and not-for profit institutions.

Obtaining Copies of Proposals: Requesters may obtain a copy of the information collection documents from the General Services Administration, Regulatory Secretariat Division (MVCB), 1800 F Street NW., Washington, DC 20405, telephone 202-501-4755. Please cite OMB Control Number 9000-0011, Preaward Survey Forms (Standard Forms 1403, 1404, 1405, 1406, 1407, and 1408), in all correspondence.

Dated: May 3, 2017.
Lorin S. Curit,
Director, Federal Acquisition Policy Division, Office of Government-wide Acquisition Policy, Office of Acquisition Policy, Office of Government-wide Policy.

[FR Doc. 2017-09305 Filed 5-8-17; 8:45 am]

BILLING CODE 6820-EP-P